DEPARTMENT OF HEALTH AND HUMAN SERVICES

Centers for Disease Control and Prevention

[Program Announcement 01148]

Capacity-Building Assistance (CBA) to Develop and Implement Effective HIV/AIDS Prevention Education Programs for South Africa Trade Unions; Notice of Availability of Funds; Amendment

A notice announcing the availability of fiscal year (FY) 2001 funds for a cooperative agreement program to develop and implement effective HIV/AIDS prevention education programs for South Africa Trade Unions, was published in the Federal Register on July 27, 2001, (Vol. 66, No. 145, Pages 39174-39177). The notice is amended as follows:

On page 39176, First Column, Under Section F. Submission and Deadline, delete: “On or before August 24, 2001, submit the application to the Grants Management Specialist identified in the Where to Obtain Additional Information of this announcement.” and change to “On or before September 7, 2001, submit the application to the Grants Management Specialist identified in the Where to Obtain Additional Information of this announcement.”

Dated: August 16, 2001.
John L. Williams,
Director, Procurement and Grants Office, Center for Disease Control and Prevention (CDC).

[FR Doc. 01-21130 Filed 8-20-01; 8:45 am]

BILLING CODE 4163-18-P